ENVIRONMENTAL PROTECTION AGENCY

[EPA-HQ-OAR-2015-0216; FRL-9954-57-OAR]

RIN 2060-ZA22

Release of Final Control Techniques Guidelines for the Oil and Natural Gas Industry

AGENCY: Environmental Protection Agency (EPA).

ACTION: Notice of availability.

SUMMARY: The Environmental Protection Agency (EPA) is announcing the availability of a final document titled, “Control Techniques Guidelines for the Oil and Natural Gas Industry” (EPA 453/B-16-001). This Control Techniques Guidelines (CTG) document provides state, local, and tribal air agencies (air agencies) information to assist them in determining reasonably available control technology (RACT) for volatile organic compound (VOC) emissions from select oil and natural gas industry emission sources.

DATES: This CTG document is effective October 27, 2016.

ADDRESSES: The final “Control Techniques Guidelines for the Oil and Natural Gas Industry” document is available primarily via the Internet at http://www.epa.gov/airquality/oilandgas/index.html or https://www.epa.gov/laws-regulations/significant-guidance-documents-air or the public docket at http://www.regulations.gov, Docket ID No. EPA-HQ-OAR-2015-0216.

FOR FURTHER INFORMATION CONTACT: Ms. Charlene Spells, U.S. Environmental Protection Agency, Office of Air Quality Planning and Standards, Sector Policies and Programs Division (E143-05), Research Triangle Park, NC 27711; telephone number: (919) 541-5255; fax number: (919) 541-3470; email: spells.charlene@epa.gov.

SUPPLEMENTARY INFORMATION:

Information About the Document

Section 172(c)(1) of the Clean Air Act (CAA) provides that State Implementation Plans (SIP) for nonattainment areas must include RACT, including RACT for existing sources of emissions. Section 182(b)(2)(A) of the CAA requires that for areas designated nonattainment for an ozone national ambient air quality standard (NAAQS) and classified as Moderate, states must revise their SIP to include provisions to implement RACT for each category of VOC sources covered by a CTG document issued between November 15, 1990, and the date of attainment. CAA section 182(c) through (e) applies this requirement to states with areas designated nonattainment for an ozone NAAQS classified as Serious, Severe, and Extreme.

The CAA also imposes the same requirement on states in Ozone Transport Regions (OTR). Specifically, CAA section 184(b) provides that states in the OTR must revise their SIP to implement RACT with respect to all sources of VOC in the state covered by a CTG document issued before or after November 15, 1990. CAA section 184(a) establishes a single OTR comprised of Connecticut, Delaware, Maine, Maryland, Massachusetts, New Hampshire, New Jersey, New York, Pennsylvania, Rhode Island, Vermont, and the Consolidated Metropolitan Statistical Area (CMSA) that includes the District of Columbia.

The EPA defines RACT as “the lowest emission limitation that a particular source is capable of meeting by the application of control technology that is reasonably available considering technological and economic feasibility” (44 FR 53761, September 17, 1979). In subsequent notices, the EPA has addressed how states can meet the RACT requirements of the CAA. The EPA developed this CTG document to provide air agencies information to assist them in determining what types of control could constitute RACT for VOC emissions from select oil and natural gas sources. In developing the final CTG document, the EPA evaluated the sources of VOC emissions from the oil and natural gas industry and the available control approaches for addressing these emissions, including the costs of such approaches. Based on available information and data, the EPA is providing final recommendations for RACT for select oil and natural gas industry emission sources. The VOC RACT recommendations contained in this final CTG document were made based on a review of the 1983 CTG document on equipment leaks from natural gas processing plants, the Oil and Natural Gas New Source Performance Standards, existing state and local VOC emission reduction approaches, and information on costs, emissions, and available emission control technologies and in response to comments received on the draft CTG document released for review on September 18, 2015 (80 FR 56577). Also, the EPA released for external peer review five technical white papers on potentially significant sources of emissions in the oil and natural gas industry. We considered information included in these white papers, along with the input we received from the peer reviewers and the public, when evaluating and recommending a RACT level of control for emission sources. Air agencies can use the recommendations in the CTG document to inform their determinations as to what constitutes RACT for VOC for those oil and natural gas industry emission sources in their particular areas. The information contained in the CTG document is provided only as guidance. This guidance does not change, or substitute for, requirements specified in applicable sections of the CAA or the EPA's regulations; nor is it a regulation itself. The RACT recommendations, and corresponding model rule language, contained in the CTG document do not impose any legally binding requirements on any entity. The CTG document provides only recommendations for air agencies to consider in determining RACT. Air agencies are free to implement other technically-sound approaches that are consistent with the CAA and the EPA's regulations.

The recommendations contained in the CTG document are based on data and information currently available to the EPA. These general recommendations may not apply to a particular situation based on circumstances not considered in the CTG document. Regardless of whether an air agency chooses to implement the recommendations contained in this CTG document, or to issue rules that adopt different approaches for RACT for VOC from oil and natural gas industry emission sources, air agencies must submit their RACT provisions to the EPA for review and approval as part of the SIP submission process. The EPA will evaluate the submissions and determine, through notice and comment rulemaking in the SIP review process, whether the submissions meet the RACT requirements of the CAA and the EPA's regulations. To the extent an air agency adopts any of the recommendations in this CTG document into its RACT provisions, interested parties can raise questions and objections about the appropriateness of the application of this guidance to a particular situation during the development of the rules and the EPA's SIP review process. Such questions and objections can relate to the substance of this guidance.

Section 182(b)(2) of the CAA provides that a CTG document issued after November 15, 1990, include the period for submitting SIP revisions incorporating provisions to require RACT for the category of VOC sources covered by the CTG document. The EPA is providing a 2-year period, from the effective date included in this Notice, for the required SIP submittal.

The Tribal Authority Rule (63 FR 7254, February 12, 1998) (TAR) identifies CAA provisions for which it is appropriate to treat Indian tribes in the same manner as air agencies (TAS). Pursuant to the TAR, tribes may apply for TAS for purposes of CAA section 110 and Part D planning requirements in CAA section 182. As a result, tribes may, but are not required to, apply for TAS for the purpose of developing a tribal implementation plan (TIP) addressing RACT for sources located in an area designated nonattainment for an ozone NAAQS with a classification of Moderate, Serious, Severe or Extreme within the tribe's jurisdiction. If the EPA grants that status and approves the TIP, the tribe would implement RACT in the area within the geographic scope of the TAS designation and the approved TIP. If a tribe does not seek and obtain the authority from the EPA to establish a plan, the EPA will be responsible for establishing CAA section 110 and 182 plans for reservations and trust lands, and any other lands under tribal jurisdiction, if the EPA determines that such a plan is necessary or appropriate to protect air quality in such areas. See 40 CFR 49.4 and 49.11.

A summary of the comments received on the draft CTG document and responses can be found in the docket at http://www.regulations.gov (Docket ID No. EPA-HQ-OAR-2015-0216).

Dated: October 20, 2016.
Gina McCarthy,
Administrator.

[FR Doc. 2016-25923 Filed 10-26-16; 8:45 am]

BILLING CODE 6560-50-P